CONSUMER FINANCIAL PROTECTION BUREAU

[Docket No. CFPB-2026-0010]

Agency Information Collection Activities: Comment Request

AGENCY: Consumer Financial Protection Bureau.

ACTION: Notice and request for comment.

SUMMARY: In accordance with the Paperwork Reduction Act of 1995 (PRA), the Consumer Financial Protection Bureau (CFPB or Bureau) requests the Office of Management and Budget's (OMB's) extension of an information collection titled “Home Mortgage Disclosure Act (Regulation C)” approved under OMB Control Number 3170-0008.

DATES: Written comments are encouraged and must be received on or before March 26, 2026 to be assured of consideration.

ADDRESSES: Written comments and recommendations for the proposed information collection should be sent within 30 days of publication of this notice to www.reginfo.gov/public/do/PRAMain. Find this particular information collection by selecting “Currently under 30-day Review—Open for Public Comments” or by using the search function. In general, all comments received will become public records, including any personal information provided. Sensitive personal information, such as account numbers or Social Security numbers, should not be included.

FOR FURTHER INFORMATION CONTACT: Requests for additional information should be directed to Anthony May, Paperwork Reduction Act Officer, at (202) 435-7278, or email: CFPB_PRA@cfpb.gov. If you require this document in an alternative electronic format, please contact CFPB_Accessibility@cfpb.gov. Please do not submit comments to these email boxes.

SUPPLEMENTARY INFORMATION:

Title of Collection: Home Mortgage Disclosure Act (Regulation C).

OMB Control Number: 3170-0008.

Type of Review: Extension of a currently approved information collection.

Affected Public: Individuals and households.

Estimated Number of Respondents: 136.

Estimated Total Annual Burden Hours: 1,510,960.

Abstract: The Home Mortgage Disclosure Act (HMDA) requires certain depository institutions and for-profit, non-depository institutions to collect, report, and disclose data about originations and purchases of mortgage loans. Additionally, these institutions must report mortgage loan applications that do not result in originations (for example, applications that are denied or withdrawn). The Bureau's Regulation C (12 CFR part 1003) implements HMDA. The purpose of the information collection is:

• To help determine whether financial institutions are serving the housing needs of their communities;

• To assist public officials in distributing public-sector investment so as to attract private investment to areas where it is needed; and

• To assist in identifying possible discriminatory lending patterns and enforcing antidiscrimination statutes.

Request for Comments: The CFPB published a 60-day Federal Register notice on December 10, 2025 (90 FR 57184) under Docket Number: CFPB-2025-0049. The CFPB is publishing this notice and soliciting comments on: (a) Whether the collection of information is necessary for the proper performance of the functions of the CFPB, including whether the information will have practical utility; (b) The accuracy of the CFPB's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be reviewed by OMB as part of its review of this request. All comments will become a matter of public record.

Anthony May,
Paperwork Reduction Act Officer, Consumer Financial Protection Bureau.

[FR Doc. 2026-03622 Filed 2-23-26; 8:45 am]

BILLING CODE 4810-AM-P